DEPARTMENT OF COMMERCE

International Trade Administration

[A-570-967]

Aluminum Extrusions from the People's Republic of China: Antidumping Duty Order

AGENCY: Import Administration, International Trade Administration, Department of Commerce.

DATES: Effective Date: May 26, 2011.

SUMMARY: Based on affirmative final determinations by the Department of Commerce (the “Department”) and the International Trade Commission (“ITC”), the Department is issuing an antidumping duty order on aluminum extrusions from the People's Republic of China (“PRC”). On May 13, 2010, the ITC notified the Department of its affirmative determination of material injury by reason of imports of certain aluminum extrusions from the PRC, and its negative determination of material injury, threat of material injury, or that the establishment of an industry is not materially retarded by reason of imports of finished heats sinks from the PRC.

FOR FURTHER INFORMATION CONTACT: Paul Stolz or Eugene Degnan, AD/CVD Operations, Office 8, Import Administration, International Trade Administration, U.S. Department of Commerce, 14th Street and Constitution Avenue, NW., Washington, DC 20230; telephone: (202) 482-4474 or (202) 482-0414, respectively.

SUPPLEMENTARY INFORMATION: In accordance with sections 735(d) and 777(i)(1) of the Tariff Act of 1930, as amended (“Act”), the Department published the final determination of sales at less than fair value in the antidumping investigation of aluminum extrusions from the PRC. See Aluminum Extrusions From the People's Republic of China: Final Determination of Sales at Less Than Fair Value, 76 FR 18524 (April 4, 2011) (“Final Determination”); see also Aluminum Extrusions From the People's Republic of China: Notice of Correction to the Final Determination of Sales at Less Than Fair Value, 76 FR 20627 (April 13, 2011).

Revision of Scope

On April 4, 2011, the Department published its affirmative final determination in the investigation. See Final Determination. On May 13, 2011, the ITC notified the Department of its affirmative finding of injury with respect to imports of certain aluminum extrusions from the PRC and its negative injury finding with respect to imports of finished heat sinks from the PRC. See Aluminum Extrusions from China (Investigation No. 731-TA-1177 (Final), USITC Publication 4229 (May 2011)). Therefore, the Department is revising the scope of the subject merchandise stated in the Final Determination to exclude finished heat sinks from the scope of the order. In its instructions to the investigation questionnaire, the ITC described heat sinks as a subset of aluminum extrusions typically used in electronic equipment as a thermal controlling tool and stated that they are usually referred to as (1) heat sink blanks, (2) fabricated heat sinks, or (3) finished heat sinks.¹ Heat sink blanks are the full length aluminum extrusions used to produce finished heat sinks. These are generally the pre-fabricated, pre-tested inputs in the production of heat sinks (post any stretching or aging processes applied). Fabricated heat sinks are generally understood to be any heat sink blank that has been cut-to-length, precision machined, and or otherwise fabricated to the end product specifications, but not yet tested, assembled onto other materials, or packaged. Finished heat sinks differ from fabricated heat sinks in that they have been fully, albeit not necessarily individually, tested and assured to comply with the required thermal performance end-use specifications. Only finished heat sinks are excluded from the scope of the order.² See Scope of the Order, below.

¹ See INSTRUCTION BOOKLET: GENERAL INFORMATION, INSTRUCTIONS, AND DEFINITIONS FOR COMMISSION QUESTIONNAIRES Aluminum Extrusions from China Inv. Nos. 701-TA-475 and 731-TA-1177 (Final) at 6-7, located at: http://www.usitc.gov/trade_remedy/731_ad_701_cvd/investigations/2010/aluminum_extrusions/final/PDF/_Instructions_US.pdf.

² See id.

Scope of the Order

The merchandise covered by the order is aluminum extrusions which are shapes and forms, produced by an extrusion process, made from aluminum alloys having metallic elements corresponding to the alloy series designations published by The Aluminum Association commencing with the numbers 1, 3, and 6 (or proprietary equivalents or other certifying body equivalents). Specifically, the subject merchandise made from aluminum alloy with an Aluminum Association series designation commencing with the number 1 contains not less than 99 percent aluminum by weight. The subject merchandise made from aluminum alloy with an Aluminum Association series designation commencing with the number 3 contains manganese as the major alloying element, with manganese accounting for not more than 3.0 percent of total materials by weight. The subject merchandise is made from an aluminum alloy with an Aluminum Association series designation commencing with the number 6 contains magnesium and silicon as the major alloying elements, with magnesium accounting for at least 0.1 percent but not more than 2.0 percent of total materials by weight, and silicon accounting for at least 0.1 percent but not more than 3.0 percent of total materials by weight. The subject aluminum extrusions are properly identified by a four-digit alloy series without either a decimal point or leading letter. Illustrative examples from among the approximately 160 registered alloys that may characterize the subject merchandise are as follows: 1350, 3003, and 6060.

Aluminum extrusions are produced and imported in a wide variety of shapes and forms, including, but not limited to, hollow profiles, other solid profiles, pipes, tubes, bars, and rods. Aluminum extrusions that are drawn subsequent to extrusion (“drawn aluminum”) are also included in the scope.

Aluminum extrusions are produced and imported with a variety of finishes (both coatings and surface treatments), and types of fabrication. The types of coatings and treatments applied to subject aluminum extrusions include, but are not limited to, extrusions that are mill finished (i.e., without any coating or further finishing), brushed, buffed, polished, anodized (including bright-dip anodized), liquid painted, or powder coated. Aluminum extrusions may also be fabricated, i.e., prepared for assembly. Such operations would include, but are not limited to, extrusions that are cut-to-length, machined, drilled, punched, notched, bent, stretched, knurled, swedged, mitered, chamfered, threaded, and spun. The subject merchandise includes aluminum extrusions that are finished (coated, painted, etc.), fabricated, or any combination thereof.

Subject aluminum extrusions may be described at the time of importation as parts for final finished products that are assembled after importation, including, but not limited to, window frames, door frames, solar panels, curtain walls, or furniture. Such parts that otherwise meet the definition of aluminum extrusions are included in the scope. The scope includes the aluminum extrusion components that are attached (e.g., by welding or fasteners) to form subassemblies, i.e., partially assembled merchandise unless imported as part of the finished goods `kit' defined further below. The scope does not include the non-aluminum extrusion components of subassemblies or subject kits.

Subject extrusions may be identified with reference to their end use, such as fence posts, electrical conduits, door thresholds, carpet trim, or heat sinks (that do not meet the finished heat sink exclusionary language below). Such goods are subject merchandise if they otherwise meet the scope definition, regardless of whether they are ready for use at the time of importation.

The following aluminum extrusion products are excluded: Aluminum extrusions made from aluminum alloy with an Aluminum Association series designations commencing with the number 2 and containing in excess of 1.5 percent copper by weight; Aluminum extrusions made from aluminum alloy with an Aluminum Association series designation commencing with the number 5 and containing in excess of 1.0 percent magnesium by weight; and aluminum extrusions made from aluminum alloy with an Aluminum Association series designation commencing with the number 7 and containing in excess of 2.0 percent zinc by weight.

The scope also excludes finished merchandise containing aluminum extrusions as parts that are fully and permanently assembled and completed at the time of entry, such as finished windows with glass, doors with glass or vinyl, picture frames with glass pane and backing material, and solar panels. The scope also excludes finished goods containing aluminum extrusions that are entered unassembled in a “finished goods kit.” A finished goods kit is understood to mean a packaged combination of parts that contains, at the time of importation, all of the necessary parts to fully assemble a final finished good and requires no further finishing or fabrication, such as cutting or punching, and is assembled “as is” into a finished product. An imported product will not be considered a “finished goods kit” and therefore excluded from the scope of the investigation merely by including fasteners such as screws, bolts, etc. in the packaging with an aluminum extrusion product.

The scope also excludes aluminum alloy sheet or plates produced by other than the extrusion process, such as aluminum products produced by a method of casting. Cast aluminum products are properly identified by four digits with a decimal point between the third and fourth digit. A letter may also precede the four digits. The following Aluminum Association designations are representative of aluminum alloys for casting: 208.0, 295.0, 308.0, 355.0, C355.0, 356.0, A356.0, A357.0, 360.0, 366.0, 380.0, A380.0, 413.0, 443.0, 514.0, 518.1, and 712.0. The scope also excludes pure, unwrought aluminum in any form.

The scope also excludes collapsible tubular containers composed of metallic elements corresponding to alloy code 1080A as designated by the Aluminum Association where the tubular container (excluding the nozzle) meets each of the following dimensional characteristics: (1) Length of 37 mm or 62 mm, (2) outer diameter of 11.0 mm or 12.7 mm, and (3) wall thickness not exceeding 0.13 mm.

Also excluded from the scope of this order are finished heat sinks. Finished heat sinks are fabricated heat sinks made from aluminum extrusions the design and production of which are organized around meeting certain specified thermal performance requirements and which have been fully, albeit not necessarily individually, tested to comply with such requirements.

Imports of the subject merchandise are provided for under the following categories of the Harmonized Tariff Schedule of the United States (“HTS”): 7604.21.0000, 7604.29.1000, 7604.29.3010, 7604.29.3050, 7604.29.5030, 7604.29.5060, 7608.20.0030, and 7608.20.0090. The subject merchandise entered as parts of other aluminum products may be classifiable under the following additional Chapter 76 subheadings: 7610.10, 7610.90, 7615.19, 7615.20, and 7616.99 as well as under other HTS chapters. In addition, fin evaporator coils may be classifiable under HTS numbers: 8418.99.80.50 and 8418.99.80.60. While HTS subheadings are provided for convenience and customs purposes, the written description of the scope is dispositive.

Antidumping Duty Order

On May 13, 2011, in accordance with section 735(d) of the Act, the ITC notified the Department of its final determination in the investigation. In its determination, the ITC did not find material injury with respect to finished heat sinks. However, the ITC did find material injury with respect to all other aluminum extrusions from the PRC.

Because the ITC determined that imports of aluminum extrusions (with the exception of finished heat sinks) from the PRC are materially injuring a U.S. industry, all unliquidated entries of such merchandise from the PRC, entered or withdrawn from warehouse, are subject to the assessment of antidumping duties.

Therefore, in accordance with section 736(a)(1) of the Act, the Department will direct U.S. Customs and Border Protection (“CBP”) to assess, upon further instruction by the Department, antidumping duties equal to the amount by which the normal value of the merchandise exceeds the export price (or constructed export price) of the merchandise, minus the amounts determined to constitute export subsidies for all relevant entries of aluminum extrusions from the PRC. These antidumping duties will be assessed on unliquidated entries from the PRC entered, or withdrawn from the warehouse, for consumption on or after November 12, 2010, the date on which the Department published its preliminary determination. See Aluminum Extrusions from the People's Republic of China: Notice of Preliminary Determination of Sales at Less Than Fair Value, and Preliminary Determination of Targeted Dumping, 75 FR 69403 (November 12, 2010) (“Preliminary Determination”).

Termination of Suspension of Liquidation for Finished Heat Sinks

Because the ITC made a negative determination with respect to finished heat sinks, the Department will direct CBP to terminate the suspension of liquidation for entries of finished heat sinks from the PRC that were either entered or withdrawn from warehouse for consumption, and to release any bond or other security, and refund any cash deposit, posted to secure the payment of estimated antidumping duties.

Continuation of Suspension of Liquidation

In accordance with section 735(c)(1)(B) of the Act, we will instruct CBP to suspend liquidation on all entries of subject merchandise from the PRC. We will also instruct CBP to require cash deposits equal to the estimated amount by which the normal value exceeds the U.S. price as indicated in the chart below. These instructions suspending liquidation will remain in effect until further notice.

Additionally, in the countervailing duty (“CVD”) order, the Department determined that the products under investigation, exported by the Guang Ya Group ³ and New Zhongya,⁴ benefitted from an export subsidy. Therefore, for subject merchandise exported by the Guang Ya Group and New Zhongya, we will instruct CBP to reduce the Guang Ya Group and New Zhongya's dumping margin by the simple average of the amounts determined to constitute export subsidies for the Guang Ya Group and New Zhongya (0.26 percent) in the CVD order, published concurrently with this notice.

³ Guang Ya Aluminium Industries Co., Ltd., Foshan Guangcheng Aluminium Co., Ltd., Kong Ah International Company Limited, and Guang Ya Aluminium Industries (Hong Kong) Limited, (collectively, the “Guang Ya Group”).

⁴ Zhaoqing New Zhongya Aluminum Co., Ltd., Zhongya Shaped Aluminium (HK) Holding Limited and Karlton Aluminum Company Ltd. (collectively “New Zhongya”).

For the separate-rate companies, none of which were selected as respondents in the CVD investigation, we will instruct CBP to reduce the dumping margin by the amount of export subsidies included in the All Others rate from the CVD order (42.16 percent), published concurrently with this notice.

Accordingly, effective on the date of publication of the ITC's final affirmative injury determination, CBP will require, at the same time as importers would normally deposit estimated duties on this subject merchandise, a cash deposit equal to the estimated weighted-average antidumping duty margins as discussed above. See section 735(c)(3) of the Act. The “PRC-wide” rate applies to all exporters of subject merchandise not specifically listed.

Gap Period

Section 733(d) of the Act states that instructions issued pursuant to an affirmative preliminary determination may not remain in effect for more than four months except where exporters representing a significant proportion of exports of the subject merchandise request the Department to extend that four-month period to no more than six months. At the request of the exporters that account for a significant proportion of exports of aluminum extrusions from the PRC, we extended the four-month period to no more than six months. See Letter from the Guang Ya Group (November 1, 2010). In the underlying investigation, the Department published the Preliminary Determination on November 12, 2010. See Preliminary Determination, 75 FR 69403. Therefore, the six-month period beginning on the date of the publication of the Preliminary Determination ended on May 11, 2011. Furthermore, section 737(b) of the Act states that definitive duties are to begin on the date of publication of the ITC's final injury determination.

Therefore, in accordance with section 733(d) of the Act and our practice, we will instruct CBP to terminate the suspension of liquidation and to liquidate, without regard to antidumping duties, unliquidated entries of aluminum extrusions from the PRC entered, or withdrawn from warehouse, for consumption after May 11, 2011, the date provisional measures expired, and through the day preceding the date of publication of the ITC's final injury determination in the Federal Register. Suspension of liquidation will resume on and after the date of publication of the ITC's final injury determination in the Federal Register.

The weighted-average dumping margins are as follows:

Exporter | Producer | Weighted- average margin
Guang Ya Aluminium Industries Co., Ltd.; Foshan Guangcheng Aluminium Co., Ltd.; Kong Ah International Company Limited; Guang Ya Aluminium Industries (Hong Kong) Limited* | Guang Ya Aluminium Industries Co., Ltd.; Foshan Guangcheng Aluminium Co., Ltd.; Kong Ah International Company Limited; Guang Ya Aluminium Industries (Hong Kong) Limited; Zhaoqing New Zhongya Aluminum Co., Ltd.; Zhongya Shaped Aluminium (HK) Holding Limited; Karlton Aluminum Company Ltd.; Xinya Aluminum & Stainless Steel Product Co., Ltd. (A.K.A. New Asia Aluminum & Stainless Steel Product Co., Ltd.) | 33.28
Zhaoqing New Zhongya Aluminum Co., Ltd.; Zhongya Shaped Aluminium (HK) Holding Limited; Karlton Aluminum Company Ltd* | Guang Ya Aluminium Industries Co., Ltd; Foshan Guangcheng Aluminium Co., Ltd; Kong Ah International Company Limited; Guang Ya Aluminium Industries (Hong Kong) Limited; Zhaoqing New Zhongya Aluminum Co., Ltd.; Zhongya Shaped Aluminium (HK) Holding Limited; Karlton Aluminum Company Ltd.; Xinya Aluminum & Stainless Steel Product Co., Ltd. (A.K.A. New Asia Aluminum & Stainless Steel Product Co., Ltd.) | 33.28
Alnan Aluminium Co., Ltd | Alnan Aluminium Co., Ltd | 32.79
Changshu Changsheng Aluminium Products Co., Ltd | Changshu Changsheng Aluminium Products Co., Ltd | 32.79
China Square Industrial Limited | Zhaoqing China Square Industry Limited | 32.79
Cosco (J.M) Aluminium Co., Ltd | Cosco (J.M) Aluminium Co., Ltd.; Jiangmen Qunxing Hardware Diecasting Co., Ltd | 32.79
First Union Property Limited | Top-Wok Metal Co., Ltd | 32.79
Foshan Jinlan Non-ferrous Metal Product Co. Ltd | Foshan Jinlan Aluminium Co. Ltd | 32.79
Foshan Sanshui Fenglu Aluminium Co., Ltd | Foshan Sanshui Fenglu Aluminium Co., Ltd | 32.79
Guangdong Hao Mei Aluminium Co., Ltd | Guangdong Hao Mei Aluminium Co., Ltd | 32.79
Guangdong Weiye Aluminium Factory Co., Ltd | Guangdong Weiye Aluminium Factory Co., Ltd | 32.79
Guangdong Xingfa Aluminium Co., Ltd | Guangdong Xingfa Aluminium Co., Ltd | 32.79
Hanwood Enterprises Limited | Pingguo Aluminium Company Limited | 32.79
Honsense Development Company | Kanal Precision Aluminium Product Co., Ltd | 32.79
Innovative Aluminium (Hong Kong) Limited | Taishan Golden Gain Aluminium Products Limited | 32.79
Jiangyin Trust International Inc | Jiangyin Xinhong Doors and Windows Co., Ltd | 32.79
JMA (HK) Company Limited | Guangdong Jianmei Aluminum Profile Company Limited; Foshan JMA Aluminium Company Limited | 32.79
Kam Kiu Aluminium Products Sdn Bhd | Tai Shan City Kam Kiu Aluminium Extrusion Co., Ltd | 32.79
Longkou Donghai Trade Co., Ltd | Shandong Nanshan Aluminum Co., Ltd | 32.79
Ningbo Yili Import and Export Co., Ltd | Zhejiang Anji Xinxiang Aluminum Co., Ltd | 32.79
North China Aluminum Co., Ltd | North China Aluminum Co., Ltd | 32.79
PanAsia Aluminium (China) Limited | PanAsia Aluminium (China) Limited | 32.79
Pingguo Asia Aluminum Co., Ltd | Pingguo Asia Aluminum Co., Ltd | 32.79
Popular Plastics Co., Ltd | Hoi Tat Plastic Mould & Metal Factory | 32.79
Press Metal International Ltd | Press Metal International Ltd | 32.79
Shenyang Yuanda Aluminium Industry Engineering Co. Ltd | Zhaoqing Asia Aluminum Factory Company Limited; Guang Ya Aluminum Industries Co., Ltd | 32.79
Tai-Ao Aluminium (Taishan) Co., Ltd | Tai-Ao Aluminium (Taishan) Co., Ltd | 32.79
Tianjin Ruixin Electric Heat Transmission Technology Co., Ltd. | Tianjin Ruixin Electric Heat Transmission Technology Co., Ltd | 32.79
USA Worldwide Door Components (Pinghu) Co., Ltd.; Worldwide Door Components (Pinghu) Co | USA Worldwide Door Components (Pinghu) Co., Ltd | 32.79
Zhejiang Yongkang Listar Aluminium Industry Co., Ltd | Zhejiang Yongkang Listar Aluminium Industry Co., Ltd | 32.79
Zhongshan Gold Mountain Aluminium Factory Ltd | Zhongshan Gold Mountain Aluminium Factory Ltd | 32.79
PRC-wide Entity |  | 33.28
* Because Xinya Aluminum & Stainless Steel Product Co., Ltd. (“Xinya”) did not export subject merchandise to the United States during the period of investigation, for the final determination, Xinya is not being considered for a separate rate.

This notice constitutes the antidumping duty order with respect to aluminum extrusions from the PRC pursuant to section 736(a) of the Act. Interested parties may contact the Department's Central Records Unit, Room 7046 of the main Commerce building, for copies of an updated list of antidumping duty orders currently in effect.

This order is published in accordance with section 736(a) of the Act and 19 CFR 351.211.

Dated: May 20, 2011.
Ronald K. Lorentzen,
Deputy Assistant Secretary for Import Administration.

[FR Doc. 2011-13086 Filed 5-25-11; 8:45 am]

BILLING CODE 3510-DS-P